DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Fort Wayne Children's Zoo, Fort Wayne, IN, PRT-025617

The applicant requests a permit to import one captive-born female Amur leopard (Panthera pardus orientalis) from Jungle Cat World, Ontario, Canada for the enhancement of propagation and conservation education.

Applicant: Mark A. Metzger, W. Alexandria, OH, PRT-025214

The applicant requests a permit to import the sport-hunted trophy of one male bontebok (Damaliscus pygargus dorcas) culled from a captive herd maintained under the management program of the Republic of South Africa, for the purpose of enhancement of the survival of the species.

Applicant: The Zoo Gulf Breeze, Gulf Breeze, FL, PRT-022467

The applicant requests a permit to export three captive-born female Ringed Tailed Lemurs (Lemur catta) to Parque Sur de Maracaibo, Maracaibo, Venezuela, to enhance the survival of the species through public education.

Applicant: Albuquerque Biological Park/Rio Grande Zoo, Albuquerque, NM, PRT-023518

The applicant requests a permit to import two captive-born male jaguars (Panthera onca) from Parque Zoologico de Leon, Leon, Mexico, to enhance the survival of the species through conservation education.

Applicant: Coronas Entertainment, Bradenton, FL, PRT-023228

The applicant requests a permit to export and re-import African leopard (Panther pardus), and progeny of the animals currently held by the applicant and any animals acquired in the United States by the applicant to/from worldwide locations to enhance the survival of the species through conservation education.

This notification covers activities conducted by the applicant over a three year period.

Marine Mammal

The public is invited to comment on the following application for a permit to conduct certain activities with marine mammals. The application was submitted to satisfy requirements of the Marine Mammal Protection Act of 1972, as amended (16 U.S.C. 1361 et seq.) and the regulations governing marine mammals (50 CFR 18).

Applicant: Henry McNatt, Lutz, FL, PRT-025213

The applicant requests a permit to import a polar bear (Ursus maritimus) sport-hunted from the Lancaster Sound polar bear population, Northwest Territories, Canada for personal use.

Applicant: Gregory Gibson, Terre Haute, IN, PRT-025212

The applicant requests a permit to import a polar bear (Ursus maritimus) sport-hunted from the Southern Beaufort Sea polar bear population, Northwest Territories, Canada for personal use.

Applicant: Tim Gott, Southwest Harbor, ME, PRT-025211

The applicant requests a permit to import a polar bear (Ursus maritimus) sport-hunted from the Southern Beaufort Sea polar bear population, Northwest Territories, Canada for personal use.

Applicant: Bruce Pelletier, Rockwood, ME, PRT-025210

The applicant requests a permit to import a polar bear (Ursus maritimus) sport-hunted from the Southern Beaufort Sea polar bear population, Northwest Territories, Canada for personal use.

Applicant: Patrick B. Sands, Dallas, TX, PRT-025227

The applicant requests a permit to import a polar bear (Ursus maritimus) sport-hunted from the Lancaster Sound polar bear population, Northwest Territories, Canada for personal use.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: April 20, 2000.
Kristen Nelson,
Chief, Branch of Permit, Office of Management Authority.

[FR Doc. 00-10280 Filed 4-24-00; 8:45 am]

BILLING CODE 4310-55-P